ENVIRONMENTAL PROTECTION AGENCY

[ER-FRL-9034-4]

Environmental Impact Statements; Notice of Availability

Responsible Agency: Office of Federal Activities, General Information (202) 564-7146 or http://www.epa.gov/nepa.

Weekly receipt of Environmental Impact Statements (EISs) Filed 07/17/2017 Through 07/21/2017 Pursuant to 40 CFR 1506.9.

Notice

Section 309(a) of the Clean Air Act requires that EPA make public its comments on EISs issued by other Federal agencies. EPA's comment letters on EISs are available at: http://www.epa.gov/compliance/nepa/eisdata.html.

EIS No. 20170134, Final, FHWA, IL, Interstate 290 Eisenhower Expressway, Contact: Catherine A. Batey 217-492-4600, Under MAP-21 Section 1319, FHWA has issued a single FEIS and ROD. Therefore, the 30-day wait/review period under NEPA does not apply to this action.

EIS No. 20170135, Draft, NPS, WA, Olympic National Park Draft Mountain Goat Management Plan, Comment Period Ends: 09/26/2017, Contact: Christina Miller 360-565-3004.

EIS No. 20170136, Draft, BIA, WA, Confederated Tribes of the Colville Reservation Integrated Resource Management Plan 2015, Comment Period Ends: 09/11/2017, Contact: Anna Schmidt 503-231-6808.

EIS No. 20170137, Draft Supplement, Caltrans, CA, I-710 Corridor Project, Comment Period Ends: 09/22/2017, Contact: Jason Roach 213-897-0357.

EIS No. 20170138, Final, FERC, VA, Atlantic Coast Pipeline and Supply Header Project, Review Period Ends: 08/28/2017, Contact: Kevin Bowman 202-502-6287.

EIS No. 20170139, Final, FHWA, IL, US 30 from IL 136 to IL 40 Whiteside Co., Contact: Catherine A. Batey 217-492-4600, Under MAP-21 Section 1319, FHWA has issued a single FEIS and ROD. Therefore, the 30-day wait/review period under NEPA does not apply to this action.

EIS No. 20170140, Draft, USFS, WY, North Savery Project, Comment Period Ends: 09/12/2017, Contact: Paula Guenther 307-326-2507.

EIS No. 20170141, Draft, AFS, MT, Starry Goat, Comment Period Ends: 09/11/2017, Contact: Lisa Osborn 406-295-7558.

EIS No. 20170142, Adoption, Final, FAA, CA, ADOPTION—Land Acquisition and Airspace Establishment to Support Large-Scale Marine Air Ground Task Force Live-Fire and Maneuver Training at Marine Corps Air Ground Combat Center, Review Period Ends: 09/04/2017, Contact: Paula Miller 202-267-7378. The U.S. Department of Transportation's Federal Aviation Administration (FAA) has adopted the U.S. Department of Navy's FSEIS #20160327, filed 12/30/2016 with EPA. FAA was a cooperating agency on the project and recirculation of the document is not necessary under Section 1506.3(c) of the CEQ Regulations.

Amended Notices

EIS No. 20170106, Draft, NMFS, OR, Analyze Impacts of NOAA's National Marine Fisheries Service joining as a signatory to a new U.S. v. Oregon Management Agreement for the Years 2018-2027, Comment Period Ends: 08/21/2017, Contact: Jeromy Jording 360-753-9576. Revision to the FR Notice Published 06/23/2017; Extending the Comment Period from 08/07/2017 to 08/21/2017.

Dated: July 25, 2017.
Dawn Roberts,
Management Analyst, NEPA Compliance Division, Office of Federal Activities.

[FR Doc. 2017-15966 Filed 7-27-17; 8:45 am]

BILLING CODE 6560-50-P